DEPARTMENT OF ENERGY

Federal Energy Regulatory Commission

[Project No. 13332-000]

Raccourci Cut-off Project, LLC; Notice of Preliminary Permit Applications Accepted for Filing and Soliciting Comment, Motions To Intervene, and Competing Applications

December 30, 2008.

On November 21, 2008, Raccourci Cut-off Project, LLC filed an application, pursuant to section 4(f) of the Federal Power Act, proposing to study the feasibility of the Raccourci Cut-off Project, to be located on the Mississippi River in Pointe Coupee Parish and West Feliciana Parish, Louisiana.

The proposed Raccourci Cut-off Project consists of: (1) 6,336 proposed 40 kilowatt Free Flow generating units having a total installed capacity of 253 megawatts, (2) a proposed transmission line, and (3) appurtenant facilities. The Raccourci Cut-off Project would have an average annual generation of 1,110 gigawatt-hours, and would be sold to a local utility.

Applicant Contact: Ms. Ramya Swaminathan, Free Flow Power Corporation, 33 Commercial Street, Gloucester, MA 01930, phone (978) 226-1531. FERC Contact: Henry Woo, (202) 502-8872.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13332) in the docket number field to access the document. For assistance, call toll-free 1-866-208-3372.

Kimberly D. Bose,
Secretary.

[FR Doc. E8-31435 Filed 1-6-09; 8:45 am]

BILLING CODE 6717-01-P